DEPARTMENT OF STATE

[Public Notice 5379]

Bureau of Educational and Cultural Affairs (ECA) Request for Grant Proposals: English as a Foreign Language Institutes for Egypt and Morocco; Jordan and Syria

Announcement Type: New Cooperative Agreement.

Funding Opportunity Number: ECA/A/S/X-06-06.

Catalog of Federal Domestic Assistance Number: 00.000.

Key Dates: Application Deadline, May 22, 2006.

Executive Summary: The Fulbright Teacher Exchange Branch in the Office of Global Educational Programs of the Bureau of Educational and Cultural Affairs (ECA) announces an open competition for an assistance award program to support the development of two teaching enhancement institutes for educators from Egypt and Morocco; Jordan and Syria, during the summer of 2007. Accredited, post-secondary U.S. educational institutions meeting the provisions described in Internal Revenue Code section 26 U.S.C. 501(c)(3) may submit proposals to develop and administer two English as a Foreign Language (EFL) institutes, one for educators from Egypt and Morocco and the other for educators from Jordan and Syria. Approximately 24 qualified English teachers (10-12 from each of the institute's two participating countries) will be selected to attend each intensive six-week academic institute, which will include a 3-day visit to Washington, DC. Following the institutes, participants will return home to conduct in-country workshops for 40-50 local educators in each participating country. In addition, two outstanding teachers from Egypt who excelled in the summer institutes and have shown initiative in implementing in-country follow-on activities will be chosen to attend the Morocco workshop and two outstanding teachers from Morocco will attend the Egypt workshop. Similarly, two teachers from Jordan will be selected to attend the Syria workshop and two from Syria will attend the Jordan workshop. Participation in an additional in-country workshop will provide an opportunity for international professional development, help develop a network amongst participants and underscore the regional emphasis of the program.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

I.1 Overview

The Bureau requests detailed proposals from U.S. institutions of higher education, which have expertise in the field of EFL. Proposals should demonstrate the applicant's understanding of the local educational systems in Egypt, Jordan, Morocco and Syria as well as issues confronting English language education in these countries. Special expertise in handling cross-cultural programs is highly desired. Proposals should outline a design for follow-on programming in each country that will build on the achievements of the institutes while promoting the continued exchanges of ideas between the participants and their schools, the U.S. grantee organization and the U.S. professional contacts.

I.2 Project Objectives

Proposals should reflect four overall goals: First, to produce two highly focused institutes that update participants in best practices in EFL and U.S. teaching methodology at the primary through secondary levels; second, to provide participants with skills that will enable them to conduct workshops on institute topics in their home countries in the future; third, to provide opportunities for participants to make presentations on their countries' best practices in EFL for one another and their U.S. counterparts; and fourth, to provide participants with opportunities to interact with American students and professionals, thereby allowing them to increase their understanding of U.S. culture and society, both during their time in the U.S. and after their return home.

I.3 Guidelines

I.3a Project Planning and Implementation

In early 2007, the grantee organization will be responsible for conducting an initial planning visit to the four countries to consult with representatives from the Public Affairs Sections of the U.S. Embassies (PAS), the Department of State's Regional English Language Officers (RELOs) based in Egypt, Morocco and Jordan, the Fulbright Commission in Morocco, and local educators. RELOs are credentialed, experienced EFL officers attached to U.S. embassies to work with host-country Ministries of Education, universities and teacher-training officials on targeted English language programs. With the concurrence of the countries' Ministries of Education, participants will be recruited and selected by the PAS, RELOs, and/or the Fulbright Commission in Morocco. For information on contacting the appropriate parties, please refer to the Project Objectives, Goals, and Implementation (POGI).

After the participants have been selected but prior to their departure for the U.S., the PAS, RELOs, or Fulbright Commission in Morocco will conduct a one-day pre-departure orientation session for participants in their respective countries based on information provided by the organization that is awarded the grant. These orientations will provide information about the institute, its goals, and expectations for participants. The sessions will offer a framework for integrating the institutes and their objectives into the participants' previous educational training, and for promoting team-building strategies. The grantee organization will develop orientation packets for each participant that will cover the aforementioned material and be sent to the countries in advance of pre-departure orientations.

I.3b U.S. Based Training

Following each pre-departure orientation, participants will spend approximately six weeks between May and September in the U.S. at one of the two EFL institutes to be organized by the grantee organization. The institutes should meet the needs of the participants through activities designed by U.S. education specialists with appropriate expertise in EFL instruction, curriculum development and training. The institutes should have two components: A five and a half-week intensive academic program and a three-day educational and cultural program in Washington, DC.

The academic program should address innovative EFL teaching methodologies and approaches and their implementation in the respective countries. Significant time should also be allotted for related professional activities outside the classroom such as visits to schools, consultations with U.S. teachers, in-school mentoring, and attendance at professional meetings. Where possible, proposals should offer a one-week experiential component, so that participants can observe best practices in EFL (or English as a Second Language) instruction and training in a U.S. school and team-teach. Among the topics to be addressed during the institutes are: Computer literacy skills for EFL instruction, U.S. methodology for teaching, critical thinking, communication, conflict resolution, analytical and evaluation skills, and student development and motivation in U.S. schools.

Few participants will have visited the United States previously. Accordingly, an orientation to the host institution, its community, and to U.S. society and its system of education should be an integral part of the institutes early in the program. The study program should also include cultural activities that facilitate interaction of the participants with American students, faculty, administrators, and members of the local community to promote mutual understanding between the people of the United States and the people of Egypt, Jordan, Morocco and Syria.

The three-day visit to Washington, DC should occur either midway or toward the end of each institute and should complement and reinforce the academic program. This visit should include meetings with representatives of the Department of State, other government agencies, and private-sector groups as well as visits to local educational and cultural sites as requested by the Fulbright Teacher Exchange Branch.

Administration and management of the academic program and the visit to Washington, DC will be the responsibility of the grantee organization. The grantee organization is also responsible for arrangements for domestic and international travel, lodging, food, and allowances for participants while at the host institution and in Washington, DC.

I.3c In-country Workshops

The grantee organization will organize and conduct a follow-on workshop in each country, which will be attended by all institute participants from that country as well as 40-50 additional local educators. Two outstanding teachers from each country participating in the institutes will travel to their institute's partner country to attend and participate in the in-country workshops.

The grantee organization will work with the PAS, RELOS, or the Fulbright Commission in Morocco to select the additional local educators and plan the in-country workshops. The PAS, RELOs, or the Fulbright Commission in Morocco will also provide administrative support and work with the Ministry of Education to encourage continued communication among all participants.

At these in-country workshops, institute participants will showcase the teaching strategies they developed in the U.S as they practice the teacher training skills acquired during the program. Where possible, technical assistance will also be provided by RELOs and State Department-supported resident English Language Fellows who are experienced U.S. teacher trainers with expertise in TEFL/TESL. Fellows will be assigned to countries to work on the improvement of English teaching capacity in host country educational institutions.

I.4 Relationship between ECA/A/S/X and Grantee Organization

In a cooperative agreement, the Teacher Exchange Branch (ECA/A/S/X) is substantially involved in program activities above and beyond routine grant monitoring. ECA/A/S/X activities and responsibilities for this program are as follows:

• Formulation of program policy;

• Clearing of texts and program guidelines for publication; and

• Review and approval of orientation schedules, Washington, DC program, and follow-on workshop schedules.

II. Award Information

Type of Award: Cooperative Agreement. ECA's level of involvement in this program is listed under number I above.

Fiscal Year Funds: 2006.

Approximate Total Funding: $700,000.

Approximate Number of Awards: 1.

Approximate Average Award: $700,000.

Anticipated Award Date: Pending availability of funds, September 1, 2006.

Anticipated Project Completion Date: May 31, 2008.

Additional Information: Pending successful implementation of this program and the availability of funds in subsequent fiscal years, it is ECA's intent to renew this grant for two additional fiscal years, before openly competing it again.

III. Eligibility Information

III.1 Eligible applicants

Applications may be submitted by accredited, U.S. post-secondary educational institutions meeting the provisions described in Internal Revenue Code section 26 U.S.C. 501(c)(3).

III.2 Cost Sharing or Matching Funds:

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs, which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3 Other Eligibility Requirements

Bureau grant guidelines require that organizations with less than four years experience in conducting international exchanges be limited to $60,000 in Bureau funding. ECA anticipates awarding one grant, in an amount up to $700,000 to support program and administrative costs required to implement this exchange program. Therefore, organizations with less than four years experience in conducting international exchanges are ineligible to apply under this competition.

IV. Application and Submission Information

Note: Please read the complete announcement before sending inquiries or submitting proposals. Once the RFGP deadline has passed, Bureau staff may not discuss this competition with applicants until the proposal review process has been completed.

IV.1 Contact Information to Request an Application Package

Please contact Patricia Mosley of the Fulbright Teacher Exchange Branch, ECA/A/S/X, Room 349, U.S. Department of State, SA-44, 301 4th Street, SW., Washington, DC 20547, telephone (202) 453-8897, fax (202) 453-8890, e-mail: MosleyPJ@state.gov to request a Solicitation Package. Please refer to the Funding Opportunity Number ECA/A/S/X-06-06 located at the top of this announcement when making your request. Alternatively, an electronic application package may be obtained from grants.gov. Please see section IV.3f for further information.

The Solicitation Package contains the Proposal Submission Instruction (PSI) document, which consists of required application forms, and standard guidelines for proposal preparation. It also contains the Project Objectives, Goals and Implementation (POGI) document, which provides specific information, award criteria and budget instructions tailored to this competition.

Please specify Rozina Damanwala and refer to the Funding Opportunity Number ECA/A/S/X-06-06 located at the top of this announcement on all other inquiries and correspondence.

IV.2 To Download a Solicitation Package Via Internet

The entire Solicitation Package may be downloaded from the Bureau's Web site at http://exchanges.state.gov/education/rfgps/menu.htm or from the Grants.gov Web site at http://www.grants.gov. Please read all information before downloading.

IV.3 Content and Form of Submission

Applicants must follow all instructions in the Solicitation Package. The original and eight copies of the application should be sent per the instructions under IV.3f. “Application Deadline and Methods of Submission section” below.

IV.3a You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b All proposals must contain an executive summary, proposal narrative and budget.

Please Refer to the Solicitation Package. It contains the mandatory Proposal Submission Instructions (PSI) document and the Project Objectives, Goals and Implementation (POGI) document for additional formatting and technical requirements.

IV.3c You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d Please take into consideration the following information when preparing your proposal narrative:

IV.3d.1 Adherence to all Regulations Governing the J Visa: The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. The grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 203-5029. FAX: (202) 453-8640.

Please refer to Solicitation Package for further information.

IV.3d.2 Diversity, Freedom and Democracy Guidelines:Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3 Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Cooperating institutions will be required to provide reports analyzing their evaluation findings to the Bureau in their regular program reports. All data collected, including survey responses and contact information, must be maintained for a minimum of three years and provided to the Bureau upon request.

IV.3d.4 Describe your plans for: sustainability, overall program management, staffing, and coordination with ECA/A/S/X, Fulbright Commissions, and RELOs. ECA/A/S/X considers program management, staffing and coordination with the Department of State essential elements of the program. Please be sure to give sufficient attention to these elements in your proposal by providing a staffing plan that outlines the responsibilities of each staff person and explains which staff member will be accountable for each program responsibility. Wherever possible please streamline administrative processes. Please refer to the POGI in the Solicitation Package for specific guidelines.

IV.3e Please take the following information into consideration when preparing your budget:

IV.3e.1 Applicants must submit a comprehensive budget for the entire program. The budget should not exceed $700,000 for program and administrative costs. It should indicate the number of participants that can be accommodated at this funding level, based on detailed calculations of program and administrative costs. Applicants may submit separate sub-budgets for each program component, phase, location, or activity to provide clarification.

The summary and detailed administrative and program budgets should be accompanied by a narrative which provides a brief rationale for each line item including a methodology for estimating an appropriate average maintenance allowance level and tuition costs for the participants. The total administrative costs funded by the Bureau must be reasonable and appropriate. Pending the availability of funds, the grant should begin on September 1, 2006 and should expire on May 31, 2008.

IV.3e.2 Allowable costs for the program: Allowable costs for the program and additional budget guidance are outlined in detail in the POGI document. Please refer to the Solicitation Package for complete budget guidelines and formatting instructions.

IV.3f Application Deadline and Methods of Submission:

Application Deadline Date: May 22, 2006.

Reference Number: ECA/A/S/X-06-06.

IV.3f.1 Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.2 Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight copies of the application should be sent to: U.S. Department of State, SA-44, Bureau of Educational and Cultural Affairs, Ref.: ECA/A/S/X-06-06, Program Management, ECA/EX/PM, Room 534, 301 4th Street, SW., Washington, DC 20547.

In addition, an electronic copy of the narrative and budget should be sent to Rozina Damanwala (DamanwalaRR@state.gov). The Bureau will provide these files electronically to the appropriate Public Affairs Sections at the U.S. embassies for their review.

IV.3f.3 Submitting Electronic Applications: Applicants have the option of submitting proposals electronically through Grants.gov (http://www.grants.gov). Complete solicitation packages are available at Grants.gov in the “Find” portion of the system. Please follow the instructions available in the “Get Started” portion of the site (http://www.grants.gov/GetStarted).

Applicants have until midnight (12 a.m.) of the closing date to ensure that their entire application has been uploaded to the grants.gov site. Applications uploaded to the site after midnight of the application deadline date will be automatically rejected by the grants.gov system, and will be technically ineligible.

Applicants will receive confirmation e-mail from grants.gov upon the successful submission of an application. ECA will not notify you upon receipt of electronic applications.

IV.3g Intergovernmental Review of Applications: Executive Order 12372 does not apply to this program.

V. Application Review Information

V.1 Review Process

The Bureau will review all proposals for technical eligibility. Proposals will be deemed ineligible if they do not fully adhere to the guidelines stated herein and in the Solicitation Package. The program office, as well as the Public Diplomacy section overseas, where appropriate will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below. These criteria are not rank ordered and all carry equal weight in the proposal evaluation:

1. Quality of the program idea and program planning: Proposals should exhibit originality, substance, precision, and relevance to the Bureau's mission. Proposals should demonstrate substantive expertise in EFL education, curriculum development and teacher training. Proposals should also illustrate effective use of community and regional resources to enhance the educational and cultural experiences of participants. Teaching objectives should be reasonable, feasible, and flexible. Proposals should provide a detailed plan outlining the follow-on workshops that the U.S. grantee organization is responsible for organizing and conducting in each country. In-country workshops should enable institute participants to provide training to local teachers on the skills and teaching strategies acquired in the academic program. Proposal should provide a detailed calendar and relevant work plan and demonstrate how the institution will meet the program's objectives both in the U.S. based institutes and in-country workshops.

2. Multiplier effect/impact: Proposed programs should strengthen long-term mutual understanding, including maximum sharing of information and establishment of long-term institutional and individual linkages between the United States and the four countries. The proposed strategy should also maximize the program's potential to encourage participants to build on their exchange experience after returning to their home countries.

3. Support of Diversity: Proposals should demonstrate substantive support of the Bureau's policy on diversity. Achievable and relevant features should be cited in both program administration (selection of participants, program venue and program evaluation) and program content (orientation and wrap-up sessions, program meetings, resource materials and follow-up activities).

4. Institutional Capacity and Record: Proposed personnel and institutional resources should be adequate and appropriate to achieve a substantive academic program and effective cross-cultural communication with the participants. Proposal should show evidence of strong on-site administrative capabilities with specific discussion of how logistical arrangements will be undertaken. Proposals that demonstrate knowledge of the educational systems in the proposed countries as well as an institutional record of successful implementation of exchange programs will receive preference. Proposals should demonstrate an institutional record of responsible fiscal management and full compliance with all reporting requirements for past Bureau grants as determined by Bureau Grants Staff.

5. Follow-on Activities: Proposals should include a plan for other follow-on activity (without Bureau support) ensuring that Bureau supported programs are not isolated events.

6. Project Evaluation: Proposals should include a plan to evaluate the institutes' successes, both as the activities unfold and at the end of the program. A draft survey questionnaire or other technique plus description of a methodology to use to link outcomes to original project objectives are recommended. The selected grantee organization will be expected to submit quarterly or intermediate reports after each project component is concluded, whichever is less frequent.

7. Cost-effectiveness and cost sharing: The overhead and administrative components of the proposal, including salaries and honoraria, should be kept as low as possible. All other items should be necessary and appropriate. Proposals should maximize cost sharing through other private sector support as well as institutional direct funding contributions.

8. Value to U.S.-Partner Country Relations: Proposed projects should receive positive assessments by the U.S. Department of State's geographic area desks and overseas officers of program need, potential impact, and significance in the partner countries.

VI. Award Administration Information

VI.1a Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants, http://exchanges.state.gov/education/grantsdiv/terms.htm#articleI.

VI.3 Reporting Requirements

You must provide ECA with a hard copy original plus one copy of the following reports: Quarterly financial reports; program reports at the end of each program activity; and final program and financial report no more than 90 days after the expiration of the award.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Rozina Damanwala, Office of Global Educational Programs, ECA/A/S/X, Room 349, U.S. Department of State, SA-44, 301 4th Street, SW., Washington, DC 20547, telephone: 202-619-6589, fax 202-401-1433, DamanwalaRR@state.gov.

All correspondence with the Bureau concerning this RFGP should reference the above title and number ECA/A/S/X-06-06.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 6, 2006.
C. Miller Crouch,
Principal Deputy Assistant Secretary, Bureau of Educational and Cultural Affairs, U.S. Department of State.

[FR Doc. 06-3591 Filed 4-12-06; 8:45 am]

BILLING CODE 4710-05-P